DEPARTMENT OF HEALTH AND HUMAN SERVICES

Administration for Community Living/Administration on Aging

Agency Information Collection Activities; Proposed Collection; Comment Request; Request for New Information Collection for a Program Instruction on Guidance for the Development and Submission of State Plans on Aging, State Plan Amendments and the Intrastate Funding Formula

AGENCY: Administration for Community Living, U.S. Administration on Aging, HHS.

ACTION: Notice.

SUMMARY: The Administration for Community Living (ACL)/U.S. Administration on Aging (AoA) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the template that will be used to prepare the information collection requirements contained in the Program Instruction on Guidance for the Development and Submission of State Plans on Aging, State Plan Amendments and the Intrastate Funding Formula.

DATES: Submit written or electronic comments on the collection of information by August 22, 2016.

ADDRESSES: Submit electronic comments on the collection of information to: Greg.Link@acl.hhs.gov. Submit written comments on the collection of information to Greg Link, Administration for Community Living, Washington, DC 20201, or by fax to (202) 205-0405.

FOR FURTHER INFORMATION CONTACT: Greg Link at (202) 795-7386 or Greg.Link@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension, or update, of an existing collection of information, before submitting the collection to OMB for approval. To comply with this requirement, ACL is publishing notice of the proposed collection of information set forth in this document. With respect to the following collection of information, ACL invites comments on: (1) Whether the proposed collection of information is necessary for the proper performance of ACL's functions, including whether the information will have practical utility; (2) the accuracy of ACL's estimate of the burden of the proposed collection of information, including the validity of the methodology and assumptions used; (3) ways to enhance the quality, utility, and clarity of the information to be collected; and (4) ways to minimize the burden of the collection of information on respondents, including through the use of automated collection techniques when appropriate, and other forms of information technology.

To be eligible to receive a formula grant under Section 307 (a) of the Older Americans Act (OAA) of 1965, as amended, each State Unit on Aging (SUA) is required to develop a State Plan on Aging that conforms to requirements and priorities outlined by the Assistant Secretary for Aging. Such plans are required, by statute, to be completed by each state and territory every two, three or four years. States with current two- or three-year plans may request an extension, or may amend their current plans if needed; however, at the end of a four-year plan, states must develop a new plan. There is no statutory authority to extend a plan beyond a four-year period.

State plans must address key objectives and focus areas as articulated by the Assistant Secretary for Aging. Objectives and focus areas may change periodically in accordance with the evolution of policies and practices pertaining to the provision of home and community-based supportive services to older adults and their family caregivers. Additionally, state plans must include specific assurances that the state will carry out certain activities in accordance with the OAA. Finally, states are required to develop (or revise) and submit an Intrastate Funding Formula (IFF), detailing how Federal funds made available under the OAA will be disbursed throughout the state. The information submitted to ACL/AoA via the state plan is used for Federal oversight of Title III and VII programs, ensuring that OAA funds are serving as a base for a broader system of long-term services and supports for older adults in the state and that funds are being targeted in accordance with the requirements of the Act.

With respect to targeting, LGBT advocates are urging ACL to require states, in their state plans, to provide assurances that they will assess all groups that may be eligible for designation as a “greatest social need” population and expressly include LGBT older adults as one of those groups whose needs must be assessed by the State Unit on Aging. Additionally, the recently reauthorized OAA directs the Assistant Secretary for Aging to issue guidance for conducting outreach to, and serving, Holocaust survivors. In this regard, ACL wants to know whether the targeting guidance as articulated on pages 5-6 of the template is feasible and likely to ensure maximum inclusion of all populations of seniors, including older American Indians, LGBT seniors, Holocaust survivors living in the U.S., and other isolated groups of older adults. To that end, comments are specifically requested on the extent to which the direction provided is sufficient for states to fully assess the existence of, and develop plans for serving, these individuals and their families. If commenters believe the proposed direction is insufficient, this solicitation requests comments containing the specific guidance desired as well as the practical means and data available to implement said guidance, direction and requirements for states.

When completed annually by ACL/AoA staff, the template presented here for comment will yield a Program Instruction containing the necessary information states need to develop and submit their state plans on aging. ACL/AoA estimates the burden of this data collection as follows: approximately one third (⅓) of the 56 State Units on Aging (or approximately 18 states per year) submit a new state plan in a given year. Estimates as to the amount of time it takes to prepare and submit a state plan vary greatly. Recent feedback from states indicates that, on average, it takes a state approximately 750 hours to prepare and submit a state plan on aging. The proposed Program Instruction template may be found on the ACL Web site for review at: http://www.aoa.acl.gov/AoA_Programs/OAA/Aging_Network/pi/PI-Template.aspx.

Dated: June 14, 2016.
Kathy Greenlee,
Administrator and Assistant Secretary for Aging.

[FR Doc. 2016-14612 Filed 6-20-16; 8:45 am]

BILLING CODE 4154-01-P